SECURITIES AND EXCHANGE COMMISSION

[Release No. 34-94181A; File No. SR-NYSE-2021-74]

Self-Regulatory Organizations; New York Stock Exchange LLC, Notice of Designation of a Longer Period for Commission Action on a Proposed Rule Change To Amend the Provisions of Rule 7.35B; Correction

February 15, 2022.

AGENCY: Securities and Exchange Commission.

ACTION: Notice; correction.

SUMMARY: The Securities and Exchange Commission published a document in the Federal Register on February 14, 2022, concerning a Notice of Designation of a Longer Period for Commission Action on a Proposed Rule Change To Amend the Provisions of Rule 7.35B. The document contained a typographical error.

FOR FURTHER INFORMATION CONTACT: Naomi P. Lewis, Securities and Exchange Commission, 100 F Street NE, Washington, DC 20549, (202) 551-5400.

Correction

In the Federal Register of February 14, 2022, in FR Doc. 2022-03018, on page 8305, in the first column, on the 47th line, on the first line under the heading “SECURITIES AND EXCHANGE COMMISSION” correct the reference to “Release No. 94181” instead to “Release No. 34-94181.”

Dated: February 15, 2022.
J. Matthew DeLesDernier,
Assistant Secretary.

[FR Doc. 2022-03552 Filed 2-17-22; 8:45 am]

BILLING CODE 8011-01-P